DEPARTMENT OF ENERGY

Federal Energy Regulatory Commission

[Docket No. RD25-4-000]

Commission Information Collection Activities (FERC-725N) Comment Request; Revision

AGENCY: Federal Energy Regulatory Commission.

ACTION: Notice of information collection and request for comments.

SUMMARY: In compliance with the requirements of the Paperwork Reduction Act of 1995, the Federal Energy Regulatory Commission (Commission or FERC) is soliciting public comment on proposed revisions of the currently approved information collection, FERC-725N, (Mandatory Reliability Standards: TPL Reliability Standards).

DATES: Comments on the collection of information are due March 2, 2026.

ADDRESSES: You may submit copies of your comments (identified by Docket No. RD25-4-000) by one of the following methods: Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION: Kayla Williams may be reached by email at DataClearance@FERC.gov, or by telephone at (202) 502-6468.

SUPPLEMENTARY INFORMATION:

Title: FERC-725N, (Mandatory Reliability Standards: TPL Reliability Standards.

OMB Control No.: FERC-725N (1902-0264).

Type of Request: On December 17, 2024, the North American Electric Reliability Corporation (NERC) submitted a petition seeking approval of proposed Reliability Standard TPL-008-1 (Transmission System Planning Performance Requirements for Extreme Temperature Events).¹ Further, NERC seeks approval of the associated implementation plan, violation risk factors, and violation severity levels. NERC also seeks approval of a proposed definition of “extreme temperature assessment” for inclusion in the NERC Glossary of Terms Used in NERC Reliability Standards (NERC Glossary).² For the reasons discussed below, pursuant In Order No. 896, the Commission directed NERC to submit a new or modified Reliability Standard that addresses the Commission's identified concerns pertaining to transmission system planning for extreme heat and cold weather events that impact the Reliable Operation of the Bulk-Power System.³ Specifically, the Commission directed NERC to develop a new or modified Reliability Standard that requires the following: (1) development of benchmark planning cases based on major prior extreme heat and cold weather events and/or meteorological projections; (2) planning for extreme heat and cold weather events using steady state and transient stability analyses expanded to cover a range of extreme weather scenarios including the expected resource mix's availability during extreme heat and cold weather conditions; and (3) development of corrective action plans that mitigate certain instances where performance requirements for extreme heat and cold weather events are not met.⁴

¹ Petition at 1.

² Id. at 16.

³ Transmission Sys. Plan. Performance Requirements for Extreme Weather, Order No. 896, 183 FERC ¶ 61,191 (2023).

⁴ Id. at P 6.

The FERC-725N information collection requirements are subject to review by the Office of Management and Budget (OMB) under section 3507(d) of the Paperwork Reduction Act of 1995. OMB's regulations require approval of certain information collection requirements imposed by agency rules. Upon approval of a collection of information, OMB will assign an OMB control number and expiration date. Respondents subject to the filing requirements will not be penalized for failing to respond to these collections of information unless the collections of information display a valid OMB control number. The Commission solicits comments on the need for this information, whether the information will have practical utility, the accuracy of the burden estimates, ways to enhance the quality, utility, and clarity of the information to be collected or retained, and any suggested methods for minimizing respondents' burden, including the use of automated information techniques. The Commission bases its paperwork burden estimates on the additional paperwork burden presented by the proposed new Reliability Standard TPL-008-1. The new defined term “extreme temperature assessment” is not expected to generate any new burden as it is a definition used within the body of Reliability Standards. Reliability Standards are objective-based and allow entities to choose compliance approaches best tailored to their systems. Additionally, proposed Reliability Standard TPL-008-1, Requirement R1 identifies each responsible entity that shall complete its responsibilities such that the extreme temperature assessment is completed at least once every five calendar years. The NERC Compliance Registry, as of November 20, 2024, identifies unique U.S. entities that are subject to mandatory compliance with proposed Reliability Standard TPL-008-1, as 62 planning coordinators (PC) and 204 transmission planners (TP). Based on these assumptions, we estimate the following reporting burden:

Proposed Burden TPL-008-1 Docket No. RD25-4
Reliability standard | Type and number of entity ⁵ | Number of annual responses per entity | Total number of responses | Average number of burden hours per response ⁶ | Total burden hours
| (1) | (2) | (1) * (2) = (3) | (4) | (3) * (4) = (5)
Annual Collection TPL-008-1 FERC-725N
Annual review and record retention | 62 (PC) 204 (TP) | 1 1 | 62 204 | 88 hrs., $70.67/hrs. 56 hrs., $70.67/hrs. | 5,456 hrs., $385,576. 11,424 hrs., $807,334.
Total for TPL-008-1 |  |  | 266 |  | 16,880 hrs., $1,192,910.

The annual responses and burden hours for proposed Reliability Standard TPL-008-1 will be 266 responses: 16,880 hours.

⁵ Number of entities data taken from the NERC compliance registry, dated November 20, 2024.

⁶ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48+$11.19 = $70.67/hour).

Respondents: Businesses or other for-profit institutions; not-for-profit institutions.

Frequency of Responses: On occasion.

Necessity of the Information: This order approves the Reliability Standard pertaining to transmission system planning performance requirements for extreme temperature events. As discussed above, the Commission proposes to approve proposed Reliability Standard TPL-008-1 pursuant to section 215(d)(2) of the FPA because it establishes transmission system planning performance requirements to help ensure that the Bulk-Power System will operate reliably during extreme heat and extreme cold temperature events.

Internal Review: The Commission has reviewed the proposed Reliability Standard and made a determination that its action is necessary to implement section 215 of the FPA.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 23, 2025.
Carlos D. Clay,
Deputy Secretary.

[FR Doc. 2025-24087 Filed 12-30-25; 8:45 am]

BILLING CODE 6717-01-P